NUCLEAR REGULATORY COMMISSION

Advisory Committee on the Medical Uses of Isotopes: Meeting Notice

AGENCY: Nuclear Regulatory Commission.

ACTION: Notice of meeting.

SUMMARY: The U.S. Nuclear Regulatory Commission (NRC) will convene a meeting of the Advisory Committee on the Medical Uses of Isotopes (ACMUI) on October 23-24, 2023. A sample of agenda items to be discussed during the public session includes: an overview of ICRP 153, a discussion on veterinary release; financial assurance rulemaking for disposition of category 1-3. The agenda is subject to change. The current agenda and any updates will be available on the ACMUI's Meetings and Related Documents web page at https://www.nrc.gov/reading-rm/doc-collections/acmui/meetings/2023.html or by emailing Ms. L. Armstead at the contact information below.

FOR FURTHER INFORMATION CONTACT: Ms. L. Armstead, 301-415-1650, email: lxa5@nrc.gov.

SUPPLEMENTARY INFORMATION:

Purpose: Discuss issues related to 10 CFR part 35 Medical Use of Byproduct Material.

Date and Time for Open Sessions: October 23, 2023, from 10:00 a.m. to 4:35 p.m. EST.

Date and Time for Closed Session: October 24, 2023, from 8:30 p.m. to 11:35 p.m. EST. This session will be closed to conduct the ACMUI's required annual training.

Address for Public Meeting: U.S. Nuclear Regulatory Commission, Two White Flint North Building (Meeting Room T2D30), 11555 Rockville Pike, Rockville, Maryland 20852.

Date | Webinar information (Microsoft Teams)
October 23, 2023 | Link:
| https://teams.microsoft.com/dl/launcher/launcher.html?url=%2F_%23%2Fl%2Fmeetup-join%2F19%3Ameeting_N2NhN2E0NDAtZGM2MC00N2FlLWEzZTAtZDcxN2FlZTg3NWYy%40thread.v2%2F0%3Fcontext%3D%257b%2522Tid%2522%253a%2522e8d01475-c3b5-436a-a065-5def4c64f52e%2522%252c%2522Oid%2522%253a%2522304f46bf-32c2-4e0f-912c-878db895e74a%2522%257d%26anon%3Dtrue&type=meetup-joinamp;deeplinkId=2bb6496e-e273-4726-ade3-ac43b6f94c67&directDl=true&msLaunch=true&enableMobilePage=false&suppressPrompt=true.
| Meeting ID: 220 719 213 35.
| Passcode: mkTtLH.
| Call in number (audio only): +1 301-576-2978, Silver Spring, MD Phone Conference ID: 353 440 864#.

Public Participation: Any member of the public who wishes to participate in the meeting in person, via Microsoft Teams, or via phone should contact Ms. L. Armstead using the information below.

Conduct of the Meeting

The ACMUI Chair, Darlene F. Metter, M.D., will preside over the meeting. Dr. Metter will conduct the meeting in a manner that will facilitate the orderly conduct of business. The following procedures apply to public participation in the meeting:

1. Persons who wish to provide a written statement should submit an electronic copy to Ms. L. Armstead using the contact information listed above. All submittals must be received by the close of business on October 18, 2023, and must only pertain to the topics on the agenda.

2. Questions and comments from members of the public will be permitted during the meeting, at the discretion of the ACMUI Chair.

3. The draft transcript and meeting summary will be available on ACMUI's website https://www.nrc.gov/reading-rm/doc-collections/acmui/meetings/2023.html on or about December 8, 2023.

4. Persons who require special services, such as those for the hearing impaired, should notify Ms. L. Armstead of their planned participation.

This meeting will be held in accordance with the Atomic Energy Act of 1954, as amended (primarily Section 161a); the Federal Advisory Committee Act (5 U.S.C. App); and the Commission's regulations in Title 10 of the Code of Federal Regulations, Part 7.

Note: This meeting notice was late in order to adjust the closed session meeting topics to reflect new internal personnel practices of the ACMUI.

Dated at Rockville, Maryland this 12th day of October 2023.
For the U.S. Nuclear Regulatory Commission.
Russell E. Chazell,
Advisory Committee Management Officer.

[FR Doc. 2023-22852 Filed 10-16-23; 8:45 am]

BILLING CODE 7590-01-P